DEPARTMENT OF THE INTERIOR

National Park Service

National Register of Historic Places; Notification of Pending Nominations

Nominations for the following properties being considered for listing in the National Register were received by the National Park Service before October 6, 2001. Pursuant to section 60.13 of 36 CFR Part 60 written comments concerning the significance of these properties under the National Register criteria for evaluation may be forwarded to the National Register, National Park Service, 1849 C St. NW, NC400, Washington, DC 20240. Written comments should be submitted by November 20, 2001.

Carol D. Shull,
Keeper of the National Register.

ARKANSAS

Montgomery County

Mount Ida Cities Service Filling Station, (Arkansas Highway History and Architecture MPS), 204 Whittington, Mount Ida, 01001230

Mount Ida Esso Service Station, (Arkansas Highway History and Architecture MPS), 114 US 270, Mount Ida, 01001231

Ouachita County

Clifton and Greening Street Historic District (Boundary Increase), 411 & 417 Greening St., Camden, 01001232

Washington County

Hantz House, (Arkansas Designs of E. Fay Jones MPS AD), 855 Fairview Dr., Fayetteville, 01001233

CALIFORNIA

Sonoma County

Carriger, Nicholas, Estate, 18880 Carriger Rd., Sonoma, 01001234

LOUISIANA

Ibervill Parish

Rivet, Pierre Ernest, House, (Louisiana's French Creole Architecture MPS), 58159 Plaquemine St., Plaquemine, 01001235

MASSACHUSETTS

Franklin County

Montague Center Historic District, Center, Main, North, School & Union Sts., Montague, 01001236

VERMONT

Bennington County

Whitney, Cora B., School, (Educational Resources of Vermont MPS), 814 Gage St., Bennington, 01001237

Chittenden County

Remington—Williamson Farm, (Agricultural Resources of Vermont MPS), 4282 Main Rd., Huntington, 01001239

Saltus Grocery Store, (Burlington, Vermont MPS), 299—301 N. Winoski Ave., Burlington, 01001238

Rutland County

Chaffee—Moloney Houses, 194 & 196—98 Colombian Ave., Rutland, 01001240

Windham County

Scott Farm Historic District, (Agricultural Resources of Vermont MPS), 707 Kipling Rd., Dummerston, 01001241

WISCONSIN

Dane County

Dunlap, Adam, Farmstead, 9646 Dunlap Hollow Rd., Mazomanie, 01001242

[FR Doc. 01-27698 Filed 11-2-01; 8:45 am]

BILLING CODE 4310-70-M